DEPARTMENT OF THE INTERIOR

National Park Service

Notice of Availability of Final Elk Management Plan and Environmental Impact Statement for Wind Cave National Park, South Dakota

AGENCY: National Park Service, Department of the Interior.

ACTION: Notice of Availability of Final Elk Management Plan and Environmental Impact Statement for Wind Cave National Park, South Dakota.

SUMMARY: Pursuant to Section 102(2)(C) of the National Environmental Policy Act of 1969, 42 U.S.C. 4332(2)(C), the National Park Service (NPS) announces the availability of a Final Elk Management Plan and Environmental Impact Statement (Plan/EIS) for Wind Cave National Park, South Dakota (Park).

DATES: The final Plan/EIS will remain available for public review for 30 days following the publishing of the notice of availability in the Federal Register by the U.S. Environmental Protection Agency.

ADDRESSES: Requests for copies of the final Plan/EIS should be sent to the Superintendent, Wind Cave National Park, 26611 U.S. Highway 385, Hot Springs, SD 57747-9430. You may also view the document via the Internet through the NPS Planning, Environment, and Public Comment Web site (http://parkplanning.nps.gov); simply click on the link to Wind Cave National Park.

SUPPLEMENTARY INFORMATION: The NPS prepared a draft plan/EIS for the Park, pursuant to Section 102(2)(C) of the National Environmental Policy Act of 1969. The Park is proposing to manage its elk population, primarily to prevent impacts to other natural resources in the Park, which would occur as the herd size increases. The principal tool (translocation of live elk) the Park had been using to keep population numbers in line with its historic management goals is no longer an option because chronic wasting disease (CWD) is present in the elk population. Therefore, this planning process and EIS was needed to examine alternatives to translocation. The purpose of this EIS is to identify elk management strategies for the Park that will help achieve elk population levels that are in balance with other native species in the Park, including wildlife and vegetation communities, natural ecosystem functions, and other Park resources.

The draft Plan/EIS was made available for public review for 61 days, from June 20, 2008 to August 18, 2008. During that time, the NPS distributed nearly 150 hard copies and compact discs of the draft. The draft was also made available at Park headquarters, on the Internet, and at area libraries. Four public meetings were held on July 21, 22, 23, and 24, 2008, attended by a total of 24 persons. Comments were received from 33 persons on the document during the public review period. Comments from individuals, groups, and public agencies on the alternatives, the preferred alternative, and the environmentally preferable alternative were considered.

Alternative B, both the NPS preferred and environmentally preferable alternative, was selected because it will effectively reduce and maintain the herd size to target population goals while preserving the current natural distribution and movement of elk in and out of the Park. It will also reduce adverse impacts to elk (from stress), bison, prairie dogs, black-footed ferrets, air quality, and soils from carcass disposal. It will also provide expanded hunting opportunities outside the Park and make full use of elk meat (versus wasting the resource), and will not increase elk-to-elk contact of potentially CWD-infected animals in corral situations.

Alternative B, the selected alternative, focuses on the hunting of elk on public and private lands outside the Park to reduce and maintain the Park's elk population. Movable sections of fence (gates) will be installed along the boundary fence to allow elk, but not bison, movement. The gates will be closed during hunting seasons to minimize elk reentry into the Park. Hazing may be used to ensure the appropriate number of elk leave the Park. The South Dakota Department of Game, Fish, and Parks will administer the hunt, issue all hunting permits, and retain all fees.

FOR FURTHER INFORMATION CONTACT: Contact Superintendent Vidal Davila, Wind Cave National Park, at the address or telephone number above.

Dated: September 3, 2009.
David N. Given,
Acting Regional Director, Midwest Region.

[FR Doc. E9-25687 Filed 10-23-09; 8:45 am]

BILLING CODE P